DEPARTMENT OF THE INTERIOR

Minerals Management Service

30 CFR Parts 250 and 254

RIN 1010-AC57

Oil and Gas and Sulphur Operations in the Outer Continental Shelf—Incident Reporting Requirements

AGENCY: Minerals Management Service (MMS), Interior.

ACTION: Notice of Proposed Rulemaking.

SUMMARY: This proposed rule revises and clarifies MMS requirements for reporting incidents associated with Outer Continental Shelf (OCS) oil and gas and other mineral operations. It adds a requirement for written reports and proposes the use of two new MMS report forms. The written reports must be submitted electronically. MMS has developed these reporting requirements in conjunction with the U.S. Coast Guard (USCG) and intends them to be as consistent as possible with USCG requirements for incidents where the two agencies have mutual interest and responsibilities. MMS is also working with the USCG to develop a single point electronic reporting system that would allow incident reports submitted through this single point to be sent to both agencies. This will help minimize duplicative reporting required by the two agencies.

DATES: We will consider all comments we receive by October 6, 2003. We will begin reviewing comments then and may not fully consider comments we receive after October 6, 2003.

ADDRESSES: If you wish to comment, mail or hand-carry comments (three copies) to the Department of the Interior; Minerals Management Service; Mail Stop 4024; 381 Elden Street; Herndon, Virginia 20170-4817; Attention: Rules Processing Team (Comments). If you wish to respond by e-mail, the e-mail address is: rules.comments@MMS.gov. Use the term “Incident Reporting” in your e-mail subject line. Include your name and address in your e-mail message and mark your message for return receipt.

You may submit comments with respect to the information collection burden of the proposed rule either by fax (202) 395-5806 or email (Ruth_Solomon@omb.eop.gov) directly to the Office of Information and Regulatory Affairs, Office of Management and Budget; Attention: Desk Officer for the Department of the Interior (OMB control number 1010-0XXX).

FOR FURTHER INFORMATION CONTACT: Melinda Mayes at 703-787-1063 or Staci Atkins at 703-787-1620, Engineering and Operations Division.

SUPPLEMENTARY INFORMATION: Current MMS incident reporting requirements at 30 CFR 250.191 do not include detailed reporting thresholds and definitions. This allows a range of interpretations by the lessees/operators as to what should be reported. It is difficult to conduct meaningful incident analyses on data that are not consistently reported. Additionally, MMS does not currently require the submission of written incident reports. This also makes it more difficult to gather consistent information about each incident. The OCS lessees/operators have the best and most immediate access to information about incidents that are associated with their operations.

MMS's top priority is that OCS operations be conducted in a safe and environmentally sound manner. We must continue to identify unsafe equipment and procedures, as well as the human and organizational factors that cause incidents. To do this effectively, we need to upgrade our incident data analysis, investigation, and information publication functions. MMS uses incident data analyses and investigations to identify incident causes and trends. We also use it to evaluate both industry and individual operator performance. With this knowledge, we can develop strategies for promoting safety on the OCS. Strategies may include: developing regulatory initiatives, performing needed research, working with industry to develop new standards, conducting risk-based inspections, holding joint MMS/industry workshops to address specific safety issues, working with individual lessees/operators to address particular safety concerns, or other appropriate actions. Publishing information on incident causes and trends also allows industry to identify potentially unsafe equipment, conditions, or procedures so that lessees and operators can take appropriate steps to improve the safety of their operations.

Current MMS incident reporting requirements are not consistent with the USCG reporting requirements for OCS activities. This creates confusion for OCS lessees/operators in determining what incidents to report to each agency and makes it more difficult for MMS and the USCG to coordinate their respective responsibilities on the OCS as agreed to in a Memorandum of Understanding (MOU) signed December 16, 1998. The purpose of the MOU is to minimize duplication and promote consistent regulation of OCS facilities. This proposed rule will help achieve that goal in the area of incident investigation, data collection, and analysis.

This proposed rule revises and clarifies MMS requirements for reporting incidents associated with OCS oil and gas and other mineral operations:

a. Several definitions are added, including the term “incident” which replaces the term “accident” currently used in the regulations;

b. More specific incident reporting thresholds for various incident types are established;

c. Written reports are required and must be submitted electronically; and

d. Two new MMS forms are proposed so that consistent information will be reported to MMS for all incidents.

MMS is working with the USCG to develop a single point electronic reporting system that would allow reports submitted through a single point to fulfill the requirements of both MMS and the USCG.

Relationship of This Rule to USCG Reporting Requirements

On December 7, 1999, the USCG published a Notice of Proposed Rulemaking (NPR) (64 FR 68416) amending its regulations at 33 CFR parts 140-147, Outer Continental Shelf Activities. Among many other things, the USCG NPR revises requirements for reporting incidents related to OCS facilities and vessels engaged in OCS activities. After several extensions, the comment period closed on November 30, 2000. MMS has worked with the USCG to ensure that the MMS proposed reporting requirements are as consistent as possible with the USCG's proposed rule.

This MMS proposed rule revises reporting requirements for all incidents that must be reported to MMS. The proposed rule also lists USCG reporting requirements for incidents where the two agencies have mutual interest and responsibility. We listed the USCG requirements so that both agencies' reporting requirements for these incidents can be found in one location. Our goal is for OCS lessees/operators to be able to submit reports to both agencies through one electronic system for those incidents where the two agencies have mutual interest and responsibility. Since this is an MMS rule, we can require that incidents be reported to MMS, but cannot require that the incidents be reported to the USCG. The USCG's regulations impose that requirement. The USCG will need to take some action that will allow the appropriate segments of its regulated community to report incidents electronically according to the MMS regulation. We have discussed this with the USCG, and we will continue to work closely with the USCG as we review the comments to the proposed rule and finalize the MMS incident reporting regulation.

During the comment period for this rule, MMS will hold a workshop to discuss the rule and the development of an electronic reporting system. We will publish information on the workshop in the Federal Register. MMS and USCG encourage your comments on any aspect of this proposed rule and your participation in the workshop.

Background

On January 5, 1998, (63 FR 256), MMS and the USCG published proposed revisions to the MMS/USCG MOU in the Federal Register.

On February 13, 1998 (63 FR 7335), MMS published a proposed rule to revise MMS regulations for Postlease Operations Safety. The revisions were, among other things, intended to upgrade our incident investigation, data collection, and analysis functions. Some of the comments expressed concerns that were similar to those raised at an April 22, 1998, USCG-sponsored National Offshore Safety Advisory Committee (NOSAC) meeting. At that NOSAC meeting, industry expressed concerns about the duplicative and inconsistent incident reporting requirements of MMS and the USCG and the lack of specific reporting definitions and thresholds contained in the MMS February 1998 proposed rule. Because of these concerns, NOSAC formed an Incident Reporting Subcommittee to develop recommendations for a consistent approach to incident reporting between the two agencies. MMS, USCG, and industry representatives served on this subcommittee.

On May 29, 1998 (63 FR 29478), MMS published a final rule that redesignated sections of 30 CFR part 250 to provide additional section numbers for future revisions. This redesignation did not change any requirements. Former § 250.19, dealing with incident reporting, was redesignated as § 250.119.

At a November 5, 1998, NOSAC meeting, the Incident Reporting Subcommittee presented a framework and recommendations for MMS and the USCG to use in developing incident reporting regulations. Recommendations included:

• Delay the portion of the final rule for Postlease Operations Safety dealing with incident reporting regulations (to allow MMS and USCG time to address inconsistencies between the two agencies' requirements);

• Improve the cycle time to provide better feedback of incident data (incident analysis, faster safety alerts, trend analysis);

• Establish a USCG/MMS team to focus on the incident reporting process;

• Include stakeholders in the process;

• Use, wherever possible, common definitions for like terms;

• Strive for a process that requires single agency reporting;

• Explore the value of a single form with multiple data needs;

• Investigate alternate reporting methods and timing for reports; and

• Clarify and identify who is responsible for initiating the reports.

MMS and the USCG concurred with the NOSAC Subcommittee's recommendations, and in December 1998 met to begin developing mutually agreeable reporting requirements and an electronic reporting system. The two agencies developed a draft set of requirements and, in June 1999, invited industry representatives from the NOSAC Subcommittee to meet and discuss the draft requirements.

On December 16, 1998, MMS and the USCG signed a new MOU, which was published in the Federal Register on January 15, 1999 (64 FR 2660). The purpose of the MOU is to minimize duplication and promote consistent regulation of OCS facilities. In the Federal Register notice, we also described several actions that the two agencies would consider in implementing the MOU. Several were related to incident investigation, data collection, and analysis, and they included:

• Work on safety management, including accident investigations to promote safe practices;

• Continue to work on single point reporting;

• Communicate electronically;

• Improve the process of reporting and collecting incident data; and

• Share incident data to prevent accidents, particularly fatalities.

On December 28, 1999 (64 FR 72756), MMS published the final rule for Postlease Operations Safety (30 CFR 250, subpart A). In the final rule, the section relating to incident reporting, 30 CFR 250.119, was renumbered as 30 CFR 250.191. We addressed a few of the comments on the proposed incident reporting requirements in that final rule. However, we did not make changes to incident reporting requirements (except for rewriting them in plain English) and deferred the issue to a separate rulemaking process, i.e., this MMS proposed rule.

Discussion of Proposed Changes in This MMS Proposed Rule

1. Renumbering

We propose to renumber 30 CFR 250.190 as 250.186.

We propose to revise 30 CFR 250.191 into several sections as follows:

Section 250.187—What is the scope of the incident reporting requirements?

Section 250.188—What incidents must I immediately report to MMS, USCG, National Response Center (NRC), or the Responsible Party?

Section 250.189—What other incidents must I report to MMS?

Section 250.190—What reporting procedures must I follow?

Section 250.191—How does MMS conduct incident investigations?

2. Definitions (§ 250.105)

Twelve new definitions are proposed. Five definitions are proposed to clarify specific MMS incident reporting requirements. Seven are proposed to clarify both MMS and USCG requirements.

Definitions that clarify specific MMS reporting requirements:

• Collision—We developed this definition to clarify the types of collisions that should be reported. The USCG does not have a definition for collision.

• Gas release—Reporting these incidents is a new proposed requirement, so a definition was added.

• Loss of well control—Loss of well control incidents have the potential to result in very serious consequences from both a safety and environmental standpoint. Because of the potential consequences, MMS needs to investigate and understand the causes of all of these incidents so that appropriate measures to prevent them can be identified. Currently, MMS regulations require reporting of all “blowouts,” and the term “blowout” is undefined. Because of the seriousness of loss of well control incidents, we believe most of these incidents are already being reported under current MMS regulations. However, a small number of lessees/operators may not be reporting all types of loss of well control incidents. In particular, some lessees/operators may not be reporting incidents where the well is put on a diverter and subsequently controlled. MMS proposes to replace the term “blowout” with “loss of well control” and has defined “loss of well control” as broadly as possible, including diverter incidents.

• Reportable releases of H2S— § 250.490(l) currently requires lessees/operators to notify MMS of these incidents. We are retaining that requirement and are providing a definition for “Reportable Releases of H2S” that uses the same wording found in § 250.490(l).

• Fire—Industry comments on the MMS proposed rule for Postlease Operations Safety (February 13, 1998, 63 FR 7335) requested that MMS provide a definition for fires and identify what types of fires are to be reported. In response to these comments, we are proposing a definition of fire. We started with the definition from the American Petroleum Institute's (API) Recommended Practice 14G, Third Edition, December 1, 1993. It is likely the one used by most OCS lessees/operators. To this definition, MMS has specifically added incidents involving smoke with no visible flame. This addition is in response to industry questions about whether “smoke only” incidents must be reported.

Definitions needed to clarify both MMS and USCG requirements:

• Incident—We propose to replace the term “accident” with the term “incident” and have proposed a definition. Current MMS regulations refer to “accidents.” Many people think of an accident as an event that results in serious personal injury or involves significant damage to property, while the term “incident” connotes a broader range of events. This proposed rule, like the current rule, includes reporting of events that result in serious injury or damage to property and events that result in minor or no injuries and little or no property damage. Thus, we believe the term “incident” is more appropriate. We do not intend to require reporting of illnesses and injuries arising from causes other than operational incidents, such as communicable diseases, food poisoning, etc. The definition of “incident” is designed to exclude these types of events.

The current USCG regulations and the USCG proposed rule use the term “casualty” or “marine casualty” to refer to events that must be reported. The definition of incident in this MMS proposed rule includes these terms.

• Mobile Offshore Drilling Unit (MODU)—Current MMS regulations do not include a definition for MODU. The definition proposed in this NPR is taken from the USCG NPR (33 CFR 140.25) with one change. We have eliminated the exclusion of MIDUs (Mobile Inland Drilling Units) that appears in the USCG NPR. The USCG proposed rule specifies the limited locations where MIDUs may operate on the OCS (33 CFR 145.505) and also proposes some requirements for MIDUs that are different than those for MODUs (33 CFR, part 145, Subpart F). Therefore, the USCG proposed rule includes separate definitions for MODUs and MIDUs. However, for the purpose of incident reporting, this distinction is not needed. Therefore, in this MMS NPR we have eliminated the exclusion of MIDUs from the USCG NPR defintion of MODUs, so that the reporting requirements apply to both MODUs and MIDUs when they operate on the OCS.

• OCS Activity—A definition of “OCS activity” is added to help define other terms. This proposed definition is taken directly from the MMS/USCG MOU with a minor editorial change.

• OCS Facility—A definition of “OCS facility” is added to clarify reporting requirements for vessels in relation to these facilities. Current MMS regulations include three definitions for facility. However, their applications are limited to specific sections of the 30 CFR part 250 regulations. The USCG proposed rule definition of “facility” (33 CFR 140.25) does not include pipelines, which MMS needs to include in this rulemaking. In this MMS proposed rule, we added a definition for OCS facility that is taken from the MMS/USCG MOU, which does include pipelines. To this definition, we added a phrase that specifies when MODUs are considered to be an OCS facility. We are also correcting a typographical error in the MMS/USCG MOU definition by replacing the word “and” with the word “or” to indicate that the purpose of an OCS facility is “exploring for, developing, producing, or transporting resources from the OCS.”

• Property Damage—Since some of the proposed incident reporting thresholds are based on the dollar amount of property damage, a definition is needed. At 33 CFR 143.110(a)(6), the USCG NPR incorporates a description of what “property damage” includes. We have used the USCG wording for our proposed definition with minor editorial changes and one additional change. We have replaced the term “facility” with the term “OCS facility.” The USCG NPR includes a definition for “facility,” which is not the same as our proposed definition of “OCS facility.” The definition of “OCS facility” is broader in scope than the USCG proposed rule definition of “facility,” particularly because it includes pipelines and MODUs. For incident reporting purposes, the use of the broader term, “OCS facility,” in relation to property damage is more appropriate and should satisfy the needs of both agencies.

• Vessel—We are proposing reporting of certain incidents involving vessels (boats, barges, etc.) and need to define the term “vessel.” The USCG NPR definition for vessel (33 CFR 140.25) does not specifically exclude atmospheric or pressurized vessels used for containing liquids and gases. We propose to use the definition from the MMS/USCG MOU, which does specifically exclude atmospheric and pressure vessels. We have made minor editorial changes to this definition.

• Vessels engaged in OCS activities—This definition is needed to help identify the scope of the proposed reporting requirements (§ 250.187). There is no definition for these vessels in current MMS or USCG regulations, proposed USCG regulations, or the MMS/USCG MOU. The definition in this proposed rule is based on a vessel's distance from an OCS facility.

3. Scope (§ 250.187)

We propose to expand the scope of the current regulations and provide additional guidance. Current regulations do not specify when incidents involving vessels are related to operations on a lease, easement, right-of-way, or other permit. As a result, it is unclear when these incidents must be reported to MMS. Numerous crew, supply, and other vessels transit the OCS daily. They visit OCS facilities to load/unload crew and supplies and to provide fuel and other services to those facilities. The USCG has jurisdiction over vessel operations on the OCS. However, to coordinate response and investigation responsibilities, both MMS and the USCG need to know about incidents where vessels may be involved with or pose a threat to an OCS facility. We have identified these situations as incidents involving “vessels engaged in OCS activities,” and have added a reporting requirement. A definition of “vessels engaged in OCS activities” is also proposed and is based on the distance of the vessel from an OCS facility.

As noted earlier in the preamble, we list the USCG's reporting requirements in this MMS proposed rule so that reports for both agencies can be made through one electronic system. Since MMS cannot require that incidents be reported to the USCG, the USCG will need to take some action to allow its regulated community to report incidents according to MMS regulations. This issue is also addressed in the scope of this MMS proposed rule.

The following table compares the scope of current MMS regulations and this MMS proposed rule.

Scope of MMS Current and Proposed Regulations
MMS proposed rule | MMS current regulations
§ 250.187(a) Incidents that: (1) Occur on the area covered by your lease, easement, right-of-way, or other permit; and (2) Are related to operations resulting from the exercise of your rights under your lease, easement, right-of-way, or permit. This includes incidents involving vessels engaged in OCS activities as defined in § 250.105 | 250.191(a) [Accidents] connected with any activities or operations on the lease. § 250.191(b) If you hold an easement, right-of-way, or other permit, and your operation is related to the exercise of the easement, right-of-way, or other permit, you must comply with paragraph (a) for any accident occurring on the area covered by the easement, right-of-way, or other permit.
§ 250.187(b) | You may be required to report incidents described in §§ 250.188 and 250.190 to the USCG under USCG rules. You may use the notifications and reports that you make to MMS under those sections to satisfy USCG incident reporting requirements if and to the extent allowed by USCG regulations | Not addressed in current regulations.
§ 250.187(c)
Nothing in this subpart relieves you from making notifications and reports of incidents that may be required by other regulatory agencies | Not addressed in current regulations.

4. Reporting Thresholds (§ 250.188 through § 250.189)

Three reporting categories are proposed based on the seriousness of the outcome of the incident. Those categories are “Immediate,” “12-Hour,” and “15-Day” and are named for the time when the first notification or report is due. Within each of these categories, reporting thresholds are proposed for various incident types (fires, explosions, injuries, gas releases, etc.).

We are proposing three reporting categories to ensure that MMS and the USCG receive timely notification of incidents so that we may respond appropriately. For incidents in the “Immediate” category, one or both agencies need to be notified right away because they may need to take one or more of the following actions: (1) Be involved in or monitor the ongoing response to the incident; (2) determine if the incident jeopardizes ongoing operational safety and take appropriate action; or (3) initiate an incident investigation. Although incidents in the “12-Hour” category are less serious in terms of outcome, MMS still needs to be notified to determine if any of the actions previously listed are needed. Incidents in the “15-Day” category are not likely to require immediate action from MMS. However, the agency still needs to know about them because they involve unsafe conditions or actions related to offshore operations that we may need to address.

The following discussion summarizes the thresholds we are proposing for each incident type. A table comparing these proposed thresholds with those in the current regulation is found at the end of this discussion.

For some incident types, the proposed overall reporting threshold is the same as in MMS current regulations. For other incident types, reporting thresholds have been modified through proposed definitions or more specific reporting thresholds. Other incident types included in this proposed rule are not specifically addressed in the current regulations. One incident type in the current regulation is not specifically addressed in this proposed rule.

Incidents—No change to the current reporting thresholds. Although the language may be different for the following four incident types, the reporting thresholds remain the same.

• Death—Current regulations and the proposed rule both require reporting any death. In the proposed rule, all deaths other than deaths due to natural causes would have to be reported to MMS and would be reported in the “Immediate” category. Although current regulations do not specifically exclude deaths due to natural causes, they do indicate that reportable incidents are those that are connected with any activities or operations on the lease or operations that are related to the exercise of rights under an easement, right-of-way, or other permit. We therefore believe that the reporting threshold in this proposed rule is essentially the same as that in the current regulation.

• Explosions—Current regulations and the proposed rule require reporting all explosions. In the proposed rule, explosions are reported in either the “Immediate” or “12 Hour” category, depending on the amount of property damage resulting from the explosion.

• H2S Releases—The current regulations at § 250.490(l) and the proposed rule require reporting of H2S releases. The reporting threshold of both the current and proposed rule is also the same. In the proposed rule, all H2S releases are reported in the “Immediate” category.

• Oil spills—The reporting threshold in the current regulation and the proposed rule is the same. In the proposed rule, all oil spills are reported in the “Immediate” category.

Incidents where current reporting thresholds are modified. Overall reporting thresholds for the following three incident types have been modified.

• Fires—Current regulations require reporting of all fires, and the term fire is undefined. As noted earlier, MMS, in response to industry comments, is proposing a definition for fire based on the definition from API Recommended Practice 14G, Third Edition, December 1, 1993. Incidents involving smoke with no visible flame are also included to address questions we have received from the industry. The proposed rule requires reporting of all fires except those that are completely contained in the living quarters and result in $25,000 or less in property damage. This exception eliminates the need to report minor fires that pose little risk to safety. In this proposed rule, fires are reported in the “Immediate,” “12-Hour,” or “15-Day” categories, depending on the amount of property damage or number of injuries resulting from the fire.

• Loss of well control—Current regulations require reporting of all blowouts, and the term “blowout” is undefined. Because of the potential risks associated with these incidents, the term “loss of well control” is proposed as a substitute for “blowout,” and has been broadly defined to ensure all of these incidents are included. The proposed rule requires that all losses of well control be reported in the “Immediate” category.

• Injuries—Current MMS regulations require reporting of all serious injuries, without defining the term “serious.” In this MMS NPR, we have maintained the current MMS requirement to report all serious injuries. We have specified what constitutes a serious injury, using the same criteria that the USCG has included in its NPR. Although the USCG NPR does not include a requirement for reporting less serious injuries, MMS has determined that it is important for us to develop a better understanding of the causes of these incidents as precursors or “near misses” to the more serious injury incidents. To do this, we need to examine more than just the most serious incidents. Examining the causes of less serious incidents will enable us to work with the industry to identify effective ways for preventing serious injury incidents. When MMS began to prepare this proposed rule, we decided to use the Occupational Safety and Health Administration (OSHA) terms “lost workdays” and “first aid” to define reporting thresholds because these were widely used by the petroleum and other industries and had been in place for many years. For calendar year 1997, many OCS operators submitted incident data for the voluntary MMS/USCG/Industry performance measures program. Data from the resulting report (Outer Continental Shelf Performance Measures; Safety, Environmental and Regulatory Compliance Indicators from the U.S. Offshore Oil and Gas Industry, Report for 1996-1998), published in August 1999, indicated that there were 507 “lost workday” cases in 1997. In that same year, MMS received reports for 83 injuries, or only about 16 percent of the “lost workday” cases reported by the performance measures participants.

• “Lost workdays,” as defined by OSHA, encompassed relatively minor injuries and illnesses up through the most serious ones. To eliminate the more minor injuries and illnesses included under the OSHA definition of “lost workdays,” MMS considered establishing a reporting threshold based on a certain number of “lost workdays.” Discussions with offshore industry representatives indicated that the industry keeps basic information about lost workday cases, but that tracking the number of “lost workdays” for each case in order to determine which cases should be reported to MMS would be very burdensome. Therefore, we decided not to set the threshold at a certain number of “lost workdays.” Instead, we decided to propose that all “lost workday” cases as defined by OSHA be reported while minimizing the amount of information requested for these incidents.

On January 19, 2001, OSHA published a final rule for occupational injury and illness recording and reporting requirements (29 CFR 1904.7, 66 FR 5916) which became effective on January 1, 2002. In that rule, the term “lost workday” was eliminated. We have adopted the terms from OSHA's final rule that replace “lost workdays.” Therefore, to define reporting thresholds for injuries, we are proposing the use of “days away from work” and “restricted work or job transfer” where we originally had decided to use “lost workdays.” Similarly, to define a threshold for fires involving injuries, we are proposing OSHA's new term “medical treatment beyond first aid” instead of referring to “first aid” as defined in the previous version of OSHA's regulations. We have adopted these terms as defined by OSHA, to be consistent with these already existing recording requirements and definitions rather than promulgating requirements with different criteria.

In this proposed rule, an injury threshold for each reporting category is proposed. The most serious injuries would be reported in the “Immediate” category, and the reporting threshold is defined by the nature of the injury.

In the “12-Hour” category, we propose the reporting of: (1) incidents resulting in injuries or illnesses to more than one person that involve “days away from work” or “restricted work or job transfer “ and (2) all fires resulting in injuries or illnesses to more than one person that involve “medical treatment beyond first aid.” Incidents already reported under the “Immediate” category are excluded.

In the “15-Day” category, we propose the reporting of all incidents resulting in injuries or illnesses to one person that involve “days away from work” or “restricted work or job transfer.” Incidents already reported in the “Immediate” or “12-Hour” category are excluded.

Incident types that are not addressed in the current regulations. The following eight incident types are not addressed in current MMS regulations. Six of these must be reported to MMS; the others must be reported to the USCG or NRC.

• Collision—Because these incidents have potentially serious consequences, MMS wants to ensure that they are reported. A specific requirement is included to report collisions and sets the reporting threshold at those incidents resulting in more than $25,000 of property damage. All collisions are reported in either the “Immediate” or “12-Hour” category, depending on whether the amount of property damage is more or less than $100,000.

• Incidents Involving Property Damage—Although incidents involving property damage alone do not result in serious outcomes in terms of personal injury, they do represent unsafe conditions that have the potential for more serious consequences, including personal injury. Receiving information about these incidents will help MMS identify safety concerns and work with industry on appropriate preventative measures. The dollar amount of property damage is proposed as a reporting threshold for specific incidents such as collisions, fires, and explosions, as well as a general threshold for other incidents. The proposed rule requires that incidents resulting in property damage greater than $25,000 be reported. They are reported in either the “Immediate” or “12-Hour” category, depending on the amount of property damage.

• Gas Releases—Because of the potential hazard that a release of flammable gas poses to an offshore facility as a precursor to an explosion, MMS needs to determine how often and under what circumstances these incidents are occurring on the OCS. This information will enable us to work with the industry to determine if additional prevention measures are needed. The proposed rule defines gas releases as unintentional releases that without correction could raise gas concentrations to the lower flammable (explosive) limit. Gas releases do not include gas that is vented or flared. These events have their own reporting requirements. In this proposed rule, gas releases are reported in the “15-day” category.

• Non-weather-related incidents where personnel muster for evacuation—Incidents where personnel prepare for evacuation represent situations that have the potential to become serious. MMS needs to determine how often and under what circumstances these incidents are occurring on the OCS. This information will enable us to identify additional safety concerns that may need to be addressed and to work with the industry on prevention measures. The proposed rule requires that these incidents be reported in the “15-day” category.

• Incidents that impair the operation of an OCS facility's primary firefighting and lifesaving equipment—Firefighting and lifesaving equipment are critical to the protection of offshore operations, personnel, property, and the environment. If this equipment is impaired, MMS and the USCG need to know immediately to coordinate appropriate response. Therefore, we are proposing that these incidents be reported.

• Vessels engaged in OCS activities that are involved in incidents listed in the USCG regulations at 46 CFR 4.05-1(a)(1) through 4.05-1(a)(4)—These incidents involve things such as a vessel's loss of main propulsion, etc., and are the responsibility of the USCG. If such incidents occur near an OCS facility, they have the potential to jeopardize the safety of operations, personnel, or property, on the facility or the surrounding environment. In these situations, both MMS and the USCG need to know about the incident to coordinate appropriate response and investigation actions. As noted earlier, MMS is proposing a definition for “vessels engaged in OCS activities.” This definition is based on the vessel being within 500 meters of an OCS facility. Because vessels within this distance have the potential to be involved with or affect the safety of both the vessel and the facility, these incidents would be immediately reported to both agencies.

• Vessels not engaged in OCS activities that are involved in accidents listed in the USCG regulations at 46 CFR 4.05—This NPR is intended to address both MMS and the USCG reporting requirements for incidents where we have mutual interest. However, this NPR also includes a statement that nothing in this subpart would relieve the obligation for any vessel not engaged in OCS activities to provide notices or reports to the USCG as required by 46 CFR 4.05. These incidents are beyond the scope of MMS interest and responsibility and fall within the USCG's jurisdiction, but we added this statement to ensure that there is no ambiguity between MMS and USCG requirements.

• Hazardous spills—Current regulations do not specifically address reporting of hazardous spills. MMS is interested in these incidents as they relate to the safety of OCS operations and protection of the environment but does not have direct jurisdiction or expertise over hazardous substances. MMS is able to get initial reports from the NRC for incidents involving these substances. Therefore, this proposed rule reminds lessees/operators that all hazardous spills must be reported to the NRC as currently required by Environmental Protection Agency (EPA) regulations.

Incident type that is addressed in the current regulation, but not in this NPR.

• Serious accidents—The current regulation requires reporting of all serious accidents but does not define this term. We wrote this proposed rule to provide more specific reporting definitions and thresholds. We believe that these definitions and thresholds encompass the incidents that MMS would consider serious. Therefore, the general category of serious incidents is no longer needed, and we have not included it in the proposed rule.

The following table compares the reporting thresholds in current regulations with the ones that are proposed.

Reporting Thresholds of MMS Proposed and Current Regulations
MMS proposed rule | MMS current regulations
§ 250.188(a)(1) “Immediate” Category | § 250.191(a)
All deaths, except for deaths due to natural causes | Any death.
§ 250.188(a)(4) “Immediate” Category | § 250.191(a)
All explosions resulting in property damage greater than $100,000 | All explosions.
§ 250.189(a)(2) “12-Hour” Category |
All explosions resulting in property damage equal to or less than $100,000 |
§ 250.188(a)(7) “Immediate” Category | § 250.490(l)
All reportable releases of H2S. These releases are defined using the same wording as in the current MMS regulation at § 250.490(l) | Reporting required of H2S releases, which result in a 15-minute time weighted average atmospheric concentration of H2S of 20 ppm or more anywhere on the facility.
§ 250.188(a)(8)-250.188(a)(10) “Immediate” Category | § 250.191(a)
The thresholds for reporting spills utilize the current criteria at § 254.46 and therefore are the same as the current MMS rule | Report all spills of oil or other liquid pollutants according to 30 CFR Part 254.
§ 250.188(a)(4) “Immediate” Category | § 250.191(a)
All fires resulting in property damage greater than $100,000 | All fires (undefined).
Fire is defined at § 250.105 as: |
“ ‘* * * the phenomenon of combustion manifested in light, flame, and heat’ and has the same meaning as in API RP 14G, Third Edition, December 1, 1993. In addition, the term ‘fire’ as used in this part includes incidents of combustion involving smoke with no visible flame”
§ 250.189(a)(3) and § 250.189(a)(4) “12-Hour” Category |
• § 250.189(a)(3)—All fires (defined at § 250.105) not reported in § 250.188(a) that result in property damage equal to or less than $100,000 but greater than $25,000 |
• § 250.189(a)(4)—All fires (defined at § 250.105) not reported in § 250.188(a) or § 250.189(a)(3) resulting in injuries or illnesses that involve medical treatment beyond first aid to more than one person |
§ 250.189(a)(6) “15-Day” Category |
All other fires (defined at § 250.105) not reported under § 250.188(a) or §§ 250.189(a)(3)—250.189(a)(4), excluding those completely contained in the living quarters |
§ 250.188(a)(3) “Immediate” Category | § 250.191(a)
All losses of well control | All blowouts (undefined).
Loss of well control is defined at § 250.105 as either of the following: |
• (1) Uncontrolled flow of formation or other well fluids. The flow may be between two or more exposed formations or it may be at or above the mudline. This includes uncontrolled flow resulting from failures of either surface or subsurface equipment or procedures |
• (2) Flow of formation or other well fluids through a diverter |
§ 250.188(a)(2) “Immediate” Category | § 250.191(a)
Injuries resulting in one or more of the following: | Any serious injury (undefined).
• Hospitalization of a person for more than 48 hours within 5 days of the incident; |
• Fractured bone (other than in a finger, toe, or nose);
• Loss of limb; |
• Severe hemorrhaging; |
• Severe damage to a muscle, nerve, or tendon; |
• Damage to an internal organ; or |
• Evacuation to shore of three or more people |
§ 250.189(a)(1) “12-Hour” Category |
• § 250.189(a)(1) All incidents not reported under § 250.188(a) resulting in injuries or illnesses to more than one person that involve either: |
(i) Days away from work; or |
(ii) Restricted work or job transfer |
§ 250.189(a)(5) “15-Day” Category |
All incidents not reported under § 250.188(a) or paragraph §§ 250.189(a)(1)-250.189(a)(4) resulting in an injury or illness to one person that involves either: |
(i) Days away from work; or |
(ii) Restricted work or job transfer |
§ 250.188(a)(5) “Immediate” Category | Not addressed in current MMS regulations
All collisions resulting in property damage greater than $100,000 |
Collision is defined at § 250.105 as the striking of: |
(1) an “OCS facility” by a “vessel” or helicopter; or |
(2) two “vessels” together where at least one is engaged in OCS activities, regardless of whether one or both “vessels” are in motion |
§ 250.189(a)(3) “12-Hour” Category |
All collisions not reported in § 250.189(a)(3) that result in property damage equal to or less than $100,000 but greater than $25,000 |
§ 250.188(a)(4) “Immediate” Category |
All incidents resulting in property damage greater than $100,000 |
§ 250.189(a)(3) “12-Hour” Category |
All incidents resulting in property damage greater than $25,000 but equal to or less than $100,000 |
§ 250.189(a)(7) “15-Day” Category |
Gas releases |
§ 250.189(a)(8) “15-Day” Category |
All non-weather-related incidents when personnel muster for evacuation |
§ 250.188(a)(6) “Immediate” Category |
Any incident that impairs the operation of any OCS facility’s primary firefighting or lifesaving equipment |
§ 250.188(a)(11) “Immediate” Category |
Vessels engaged in OCS activities that are involved in the incidents listed in 46 CFR 4.05-(1)(a)(1) through 4.05-(1)(a)(4) |
§ 250.188(a)(12) “Immediate” Category |
All releases of hazardous substances in reportable quantities as required by EPA regulations at 40 CFR § 302.6. Hazardous substances and reportable quantities are listed at 40 CFR § 302.4 (report to National Response Center (NRC) only) |
§ 250.188(c) |
Nothing in this subpart relieves the obligation for any vessel that is not engaged in OCS activities to provide notification and reports to the USCG as required by 46 CFR 4.05 (report to USCG only) |
Not specifically addressed in this proposed rule | § 250.191(a) All serious accidents (underfined).

5. Reporting Procedures (§ 250.190)

Except for oil spills, current MMS regulations do not require submission of written incident reports. Since written reports would be required under this proposed rule, we have included procedures for the timing, method, and format for these reports. Written reports must be submitted electronically. We are working with the USCG to develop an electronic reporting system that would allow lessees/operators to submit reports to both agencies through a single point.

• “Immediate” Reporting Category (§ 250.188). This category includes incidents that must be reported to both agencies. MMS and the USCG have worked together to make the reporting procedures as consistent as possible with the USCG proposed rule for these incidents. Most incidents listed in this section require immediate oral notification to both MMS and the USCG. This dual notification is essential so each agency can determine what immediate response, investigation, and coordination is needed. Written Follow-up Reports for most incidents in this category would be required. Some Follow-up Reports must be submitted to MMS and some to both MMS and the USCG. Written Final Reports must be submitted to MMS for the most serious incidents in this category.

Current USCG regulations require submission of written reports either in a narrative form or on their existing form CG-2692. Form CG-2692 provides some of the information that MMS needs, but not all. We have developed a new form, MMS-142, to supplement form CG-2692. Form MMS-142 is divided into four sections. For incidents where Follow-up Reports must be submitted to MMS or to both agencies, submission of a form CG-2692 and form MMS-142 (sections 1-3) is required.

We would require a complete form MMS-142 (sections 1-4) for incidents for which you must submit a Final Report to MMS. Company reports may be used to substitute for the Final Report if they contain the information requested by form MMS-142.

The USCG NPR proposes a new form, CG-RMAID, to submit written reports for fixed and floating facilities. We have not incorporated this form for incident reporting because it is still a proposed form subject to final USCG regulations. We may be ready to finalize our incident reporting rule before the form CG-RMAID is approved for use. Also, as recommended by NOSAC, MMS will continue to work with the USCG to develop a single incident reporting form for incidents that are of interest to both agencies. Although most of the information requested by form MMS-142 is not duplicative of information requested by form CG-2692, both agencies agree that a single incident reporting form will provide more efficient data submission for the regulated community and data collection and analysis for the agencies. Before developing a joint incident reporting form, both MMS and the USCG would like to consider comments we receive about the incident reporting requirements in our respective proposed rules.

• “12-Hour” and “15-Day” Reporting Categories. Incidents listed in §§ 250.189(a)(1)—250.189(a)(8) are reported only to MMS. No oral notifications are required. For incidents listed in §§ 250.189(a)(1)—250.189(a)(4), Initial and Follow-up written reports must be submitted using the forms CG-2692 and MMS-142 (sections 1-3). For incidents listed in §§ 250.189(a)(5)—250.189(a)(8), a “15-Day” written report must be submitted on a new MMS form, MMS-143.

The table in § 250.190(a)(4) specifies the forms that must be submitted for the various written report requirements. Forms CG-2692, MMS-142, and MMS-143 are included in the Appendix to this proposed rule.

A comparison between reporting procedures in the current MMS regulation and the proposed rule is shown in the table below.

MMS proposed rule | MMS current regulations
Who Reports
§ 250.105 You—defined the same as in the current MMS regulations | § 250.105 You—defined as a lessee, the owner or holder of operating rights, a designated agent of the lessee(s), a pipeline right-of-way holder, or State lessee granted a right-of-use and easement.
§ 250.188(a), § 250.189(a)(1)—§ 250.189(a)(8), For these incidents, “You must notify/submit....” | § 250.191(a), § 250.191(b), § 250.490(I), and § 254.46 For these incidents, “You must notify/report....”
§ 250.188(b) Notifications and written reports made by the owner, agent, master, operator, or person in charge of a vessel will satisfy the reporting requirements for that vessel | Not addressed in current MMS regulations.
Oral Notifications Required
§ 250.188(a)(1)—§ 250.188(a)(6) and § 250.188(a)(11) “Immediate” category These reportable incidents require oral notification to the MMS District Supervisor. Most of these incidents would also be reported to the nearest USCG Marine Safety Office (or Marine Inspection Office or Coast Guard Group Office) | § 250.191(a) Reportable incidents require notification to the MMS District Supervisor.
§ 250.188(a)(7) “Immediate” category Reportable releases of H2S require oral notification to the MMS District Supervisor | § 250.490(I) Reportable releases of H2S require notification to MMS.
§ 254.188(a)(8), § 254.188(a)(9), § 254.188(a)(10) “Immediate” category All spills require oral notification to the MMS District Supervisor, the NRC, and/or the responsible party (as appropriate for the incident) per § 254.46 | § 254.46 All spills require notification to the MMS Regional Supervisor, the NRC, and/or the responsible party (as appropriate for the incident).
§ 250.190(a)(2)(i) You must make oral notification within 24 hours and submit the appropriate written reports for incidents that are not reported, but later found to be reportable § 250.190(a)(2)(ii) You must make the appropriate oral notifications and submit the appropriate reports for incidents that have been reported, but are later found to be reportable under a different section or paragraph. | Not addressed in current regulations, except for spills of a barrel or more. Per § 254.46(b)(1): You must report a spill from your facility not originally reported, but subsequently found to be one barrel or more.
§ 250.188(a)(12)—“Immediate” category These incidents require oral notification to the NRC | Not addressed in current regulations.
Written Reports Required
§ 250.188(a)(1)—§ 250.188(a)(6) and § 250.188(a)(11) “Immediate” category These incidents require written Follow-up Reports to MMS or to the MMS and USCG | § 250.191(a), § 250.191(b), No written reports are required for any of these incidents that are reportable under current MMS regulations.
§ 250.188(a)(1)—§ 250.188(a)(4) “Immediate” category These incidents require written Final Reports to MMS | § 250.191(a), § 250.191(b), No written reports are required for any of these incidents that are reportable under current MMS regulations.
§ 250.188(a)(1)—§ 250.188(a)(4) “Immediate” category These incidents require written Final Reports to MMS
§ 250.189(a)(1)—§ 250.189(a)(4) “12-Hour” category All of these incidents require written Initial and Follow-up Reports to MMS
§ 250.189(a)(5)— § 250.189(a)(8) category “15-Day” All of these incidents require written “15-Day” Reports to MMS
§ 250.188(a)(7) “Immediate” category Reportable releases of H2S require a written Follow-up Report to MMS | § 250.490(I) No written report required for reportable releases of H2S.
§ 254.188(a)(9) “Immediate” category Written report requirements for spills are the same as in the current MMS regulation, except that spills of 200 barrels or more require a written Final Report to MMS | § 254.46(b)(2) Spills of a barrel or more require a written Follow-up Report to the Regional Supervisor, MMS.
§ 250.190(b)(1) If you are submitting reports under § 250.188 to fulfill USCG requirements, you must make a written report for each OCS facility and vessel involved in the incident | Not addressed in current regulation.
Written Reporting Forms
§ 250.190(a)(4)(i) “Immediate” category Written reports are submitted to MMS or to both MMS and the USCG. Follow-up Reports to MMS require the use of forms CG-2692 and MMS-142, Sections 1-3. Incidents reported to the MMS under § 250.188(a)(11) only require submission of the CG-2692 for the Follow-up Report | § 254.46(b)(2) Only spills of a barrel or more require a written Follow-up report. No particular report form is required.
§ 250.190(a)(4)(ii) “Immediate” category Final Report to MMS must be submitted using the form MMS-142, Sections 1-4
§ 250.190(b)(2) Company reports may be used for the Final Report if they include all of the information requested by form MMS-142
§ 250.190(a)(4)(iii) “12-Hour” Initial Reports must be submitted to MMS on Forms CG-2692 and MMS-142, Sections 1-2
§ 250.190(a)(4)(iv) “12-Hour” category Follow-up Reports must be submitted to MMS on Forms CG-2692 and MMS-142, Sections 1-3
§ 250.190(a)(4)(v) “15-Day” category 15-Day Reports must be submitted to MMS on Form MMS-143
Written Report Timing
§ 250.188 (a) “Immediate” category Follow-up Reports within 5 days; Final Report within 60 days; Follow-up Report for spills of 1 barrel or more within 15 days after the spillage has been stopped | § 254.46(b)(2) Only spills of a barrel or more require a written Follow-up report. The report is due within 15 days after the spillage has been stopped.
§ 250.190(b)(3) If Final Report is submitted within the timeframe for the Follow-up Report, no additional reporting is required
§§ 250.189(a)(1) 250.189(a)(4) “12-Hour” category Initial Report within 12 hours; Follow-up Report within 5 days
§§ 250.189(a)(5)—250.189(a)(8) “15-Day” category 15-Day Report within 15 days
Other Requirements
§ 250.190(a)(3) MMS District Supervisor may require additional information on a case-by-case basis if the District Supervisor concludes that the information is needed to determine the cause of the incident (for all reported incidents) | § 254.46(b)(2) For spills, the Regional Supervisor can require additional information if it is determined that an analysis of the response is necessary.
§ 250.190(a)(1) Requires electronic submission of all written reports | Not addressed in current regulations.
§ 250.190(b)(1) If reports are being submitted under § 250.188 to fulfill USCG requirements, a written report for each OCS facility and vessel involved in the incident is required

6. Incident Investigations—Proposed § 250.191

The proposed revisions to this section include:

• Placement of the information about incident investigations in a separate section;

• Removing the reference to the USCG in relation to incident investigations;

• Removing the reference to the panel's legal advisors; and

• Removing the reference to “no civil and criminal issues.”

The first three revisions were made in response to comments on the previous proposed rule on “Postlease Safety Operations,” published on February 13, 1998 (63 FR 7335). For additional information, please refer to the “Response to Comments Section.”

In the fourth revision, we propose to remove the existing version's reference to “no civil and criminal issues” from this section. We believe that the presence of this language could be misconstrued by some as an exemption from MMS enforcement actions associated with incidents.

The sole purpose of MMS incident investigations is to find the facts relevant to the incident, draw conclusions from the facts with respect to the cause, and make recommendations to prevent incidents in the future. MMS strongly believes that the best way to accomplish this is to conduct our investigations in a non-adversarial manner. MMS incident investigations are not a forum for either potential plaintiffs or potential defendants in any civil action (tort, etc.) that may arise from the incident. However, regulatory violations may come to light as a result of the investigation, and MMS reserves the right to pursue any such violation according to the Outer Continental Shelf Lands Act and the procedures in 30 CFR 250, Subpart N.

We do not anticipate that removal of this language in the regulation will make any significant difference in the way we conduct our incident investigations.

7. Hydrogen Sulfide—Conforming Changes to § 250.490

Revisions to 30 CFR 250.490(l) are proposed so that this section conforms to the proposed reporting requirements. They include:

• Revision of the term “facility” to read “OCS facility'';

• Addition of a requirement to submit a written Follow-up Report; and

• Clarification that notifications and reports must be made according to §§ 250.187 through 250.188 and § 250.190.

8. Oil Spills—Conforming Changes to § 254.46

Revisions to 30 CFR 254.46 are proposed so that this section conforms to the proposed reporting requirements. They include:

• Clarification that oil spill notifications must be made to the appropriate MMS “District” Supervisor rather than the MMS “Regional” Supervisor;

• Addition of a requirement to submit a written Final Report for spills of 200 barrels or more; and

• Clarification that notifications and reports must be made according to §§ 250.187 through 250.188 and § 250.190.

Request for Comments on Issues Related to the Proposed Rule

In addition to comments on the proposed rule, we specifically solicit comments on the following questions:

1. Should MMS require operators to submit information on the total number of hours worked by their employees and contractors offshore? If so, what recommendations do you have for MMS collecting the data, and how can we minimize the collection burden?

The Bureau of Labor Statistics uses a formula based on the total number of hours worked to normalize injury/illness data and calculate incident rates. MMS currently does not require “collection of hours worked” information for offshore workers and, therefore, cannot normalize the raw injury data we receive to produce comparable rates for the OCS. Through the voluntary joint Government/industry OCS Performance Measures Program, MMS does receive total hours worked for company employees and contractors (about ⅔ of all OCS operators participated in 1998). From these data, we are able to calculate rates for the data submitted. Receiving information on hours worked from all OCS operators would allow MMS to produce normalized injury/illness analyses and trend data for all injury incidents reported to MMS.

2. What kind of information should MMS collect about contractor performance on the OCS?

According to 1998 OCS Performance Measures data, contractors represented about 80 percent of the total hours worked on the OCS and were involved in over 80 percent of the recordable and lost workday injury and illness cases. Gathering and analyzing data specific to contractors and contract operations might provide insight to operators, contractors, and MMS about ways to decrease injuries to contractors and enhance the safety of contract operations.

3. What specific incident data analyses could MMS publish to help lessees/operators enhance the safety of their operations?

MMS intends to provide OCS lessees, operators, and others with the most useful incident data analyses possible. Are there specific analyses that would be particularly helpful to the industry or other regulators in preventing incidents and promoting safety?

4. What kind of electronic reporting methods are most accessible to you as an OCS lessee/operator? What recommendations do you have for developing an electronic system?

Response to Comments On the February 13, 1998, Proposed Rule

The table below lists the several comments (by organization) we received about incident reporting requirements in response to the February 13, 1998, proposed rule on “Postlease Operations Safety.” The “MMS Response” column provides our response with respect to this proposed rule. Letters from Chevron, Independent Petroleum Association of America, National Ocean Industries Association, and Shell Offshore Inc., indicated that they supported the comments submitted jointly by the API/Offshore Operators Committee.

Previous proposed rule section | Comment | Rationale | MMS response
Trustees for Alaska
§ 250.20(a) | We support the requirement for written accident reports |  | A requirement for written reports is included (§ 250.188-190).
§ 250.20 | We encourage the MMS to revise the accident reporting requirements that are being discussed by the USCG National Offshore Safety Advisory Committee Subcommittee which includes MMS members | Offshore operators should not be required to report incidents using two different forms to two separate Federal Agencies. In addition, the definition of fire is still an issue of confusion between operations, and an explanation may be appropriate in the regulations | MMS and the USCG participated in the NOSAC Subcommittee and subsequently worked together to develop this MMS proposed rule. The reporting requirements in this MMS proposed regulation are as consistent as possible with the requirements in the USCG's proposed rule, so that the USCG will be able to allow reporting under the MMS regulation for incidents where both agencies have mutual interest and responsibility. The requirement to submit written reports electronically would allow reports submitted through a single point to satisfy the requirements of both agencies.
|  |  | While proposing the use of an MMS form in conjunction with form CG-2692, most of the information on the MMS form is not duplicative of information requested on form CG-2692. MMS and the USCG agree that a joint incident form would be beneficial to both the industry and our agencies. We will continue to work on developing one.
|  |  | A definition and reporting thresholds for fires are included (§ 250.105 and § 250.187-190).
International Association of Drilling Contractors
§ 250.20 | We note that the preamble indicates that “MMS will provide more guidance on thresholds for fires, and factors that impair safety, through Notices to Lessees.” While we concur that additional guidance should be provided, we are concerned that the reporting burden may be substantially altered in this manner without appropriate review and accounting under the provisions of the Paperwork Reduction Act |  | Incident reporting definitions and thresholds are included to specify what we are proposing so you can examine and comment on the potential reporting burden (§ 250.105 and § 250.187-190).
§ 250.20(a) | We are opposed to § 250.20 as proposed. We are not fundamentally opposed to MMS requiring the collection and reporting of this information; however, we are opposed to both the MMS and the USCG requiring collection and reporting of duplicative information | Much of the information required by MMS is already required by the Coast Guard under 33 CFR 146 (casualties) or 33 CFR 151 (oil spills). Such duplicative reporting requirements are contrary to the Presidential Statement of Regulatory Philosophy and Principles as set forth in Executive Order 12866. It is particularly perplexing that the MMS is proposing new information collection requirements with respect to casualties at a time when the Coast Guard has already announced a rewrite of its regulations in 33 CFR 146 | MMS and the USCG have worked to develop reporting requirements in this MMS proposed rule that are as consistent as possible with the USCG proposed rule for incidents where both agencies have mutual interest and responsibility. The electronic reporting proposed in this MMS proposed rule would allow reports submitted through a single point to satisfy the requirements of both agencies.
|  | After twenty years of joint jurisdiction it is time for the two agencies to coordinate their activities and develop procedures for inter-Agency exchange of information rather than require duplicative reports | While this MMS proposed rule proposes the use of an MMS form in conjunction with form CG-2692, most of the information on the MMS form is not duplicative of information requested on form CG-2692. MMS and the USCG agree that a joint incident form would be beneficial to both the industry and our agencies. We will continue to work on developing one (§ 250.105 and § 250.187-190).
§ 250.20 | For the sake of clarity we would suggest that the provisions regarding investigations be placed in a separate paragraph | While there is certainly a linkage between MMS (or the Coast Guard) receiving information regarding major fires, major oil spillage, death or serious injury and their mandate to conduct an investigation and make a public report, both Agencies are authorized, on their own discretion, to investigate lesser incidents, reportable or not. This could be made clearer if the regulations regarding investigations were not included within the provisions on reporting | We made the recommended change. Information on conducting investigations is in a separate section (§ 250.191).
American Petroleum Institute/Offshore Operators Committee
§ 250.20 | Except for requirements to report oil spills, delete all other reporting requirements and incorporate recommendations of the USCG NOSAC Incident Reporting Subcommittee established on April 22, 1998, consisting of MMS, USCG and industry personnel | Definitions of accidents are inconsistent with those used in SEMP (NTL 98-6N) and those required by the USCG for similar incidents. These proposed regulations in many cases duplicate reporting requirements of the United States Coast Guard. At a meeting of NOSAC in Washington on April 22, 1998, a Subcommittee was established to review and recommend changes to improve the process of defining and reporting incidents to the MMS and the USCG. This effort was endorsed by Carolita Kallaur, Associate Director for Offshore Minerals Management. Recommendations will be completed by October 1998 | MMS and the USCG participated in the NOSAC Subcommittee. In response to the subcommittee's recommendations, the two agencies have worked to make the proposed reporting requirements as consistent as possible with those in the USCG's proposed rule for incidents that are of interest to both agencies. The electronic reporting would allow reports submitted at a single point to satisfy the requirements of both agencies.
|  | Significant administrative burden would be added to all operators if this proposed regulation was implemented. This would be the most expedient method to resolve this issue and avoid OMB and other intervention in adding this administrative burden to operators and contractors | Most of the information requested in the MMS form is not duplicative of the information requested in form CG-2692. We will continue to work with the USCG on developing a joint incident reporting form (§ 250.105 and § 250.187-190).
§ 250.20(a) | Industry has expressed concerns to the MMS that “fires” needs to be better defined since industry has confusion on what needs to be reported. We recommend that the MMS include a description or definition for what a fire is and what types of fires they expect to receive in the reports | To avoid uncertainty, the rule should include the definition, especially when the MMS is planning to use fires as one of the criteria included with the disqualification procedures found in this proposed rule in Section 250.12. The preamble states that more guidance will be given in an NTL. We prefer that the language be included in a rule | Definitions and thresholds are included so that operators/lessees can comment on what is proposed, including fires (§ 250.105 and § 250.187-190).
§ 250.20(a) | MMS should include language that allows the Operator to submit this information marked “Confidential” and the MMS to maintain it in such a way without divulging the details that may be involved in legal action | MMS should respect the confidentiality and sensitivity of information marked “Confidential” as they do with other information they receive from operators | We did not make the recommended change. MMS protects proprietary information submitted by lessees and operators to protect their competitive interests. Information that might be involved in legal action at some unknown time in the future can only be protected it if falls within one of the exceptions to the Freedom of Information Act and Privacy Act (§ 250.191).
§ 250.20(a)(1) | We recommend that this subsection qualify that the operation must be related to the exercise of the easement, right-of-way, or other permit | It would be impossible for a pipeline right-of-way owner to be aware of any accidents which might happen to occur within the pipeline right-of-way corridor which did not directly influence or impact the exercise of the right-of-way itself | We included recommended changes in § 250.191(b) of the final rule for Subpart A, Postlease Operations Safety (64 FR 72756, December 28, 1999). Similar language is included at § 250.187(a) in this proposed rule.
§ 250.20(a)(2) | We recommend that the final rule qualify the investigative authority so that it is not exercised by both the Department of Transportation's United States Coast Guard, and the Department of Interior's MMS | The cited portions of the OCS Lands Act specify that either the Secretary of the U.S. Coast Guard may institute investigations, but not both. This limitation must be contained in the regulations in order for them to be lawful | We included recommended changes in § 250.191(c) of the final rule for Subpart A, Postlease Operations Safety (64 FR 72756, December 28, 1999).
|  |  | However, in this proposed rule, we deleted the reference to the USCG because procedures outlined in § 250.191 apply only to MMS investigations. The MOU between MMS and the USCG,, signed on December 16, 1998, outlines how the two agencies will coordinate their incident investigation activities conducted under the authority of the OCS Lands Act, as amended (43 U.S.C. 1331 et seq.) (§ 250.191).
§ 250.20(a)(2) | We recommend that [sic] the striking of the provision which only allows panel members and panel experts to address questions to the person giving testimony. | This provision violates the provisions of Section 22(f) of the OCS Lands Act which requires that the production of documents and the handling of testimony and witnesses be analogous to the Federal Rules of Civil Procedures. The Federal Rules Of Civil Procedures give the party at risk for citation the opportunity to participate in questioning of witnesses in the course of any hearing. | We did not make the proposed changes. Incident investigations are fact-finding proceedings without adverse parties. The purpose of the investigation is to prepare a public report that determines the cause of the incident. Persons who are not panel members or panel experts may have interests other than finding the cause of the incident. Allowing them to question the person giving testimony could easily lead to an adversarial proceeding. However, in response to the comment, we have deleted the reference to the panel's legal advisors as being one of the categories of people who can question the person giving testimony (§ 250.191(b)). As noted earlier in the Preamble, we also propose to remove the reference to civil or criminal issues (§ 250.191). That proposed deletion does not change MMS's commitment to conduct investigations as fact-finding proceedings in a non-adversarial manner. However, MMS does retain its right to pursue any regulatory violations that may come to light as a result of the incident investigation in a separate penalty proceeding. Procedural safeguards to alleviate the commenters' concerns are already incorporated into MMS regulations (see 30 CFR 250, Subpart N).

Appendices

The following appendices will not appear in the Code of Federal Regulations. Appendix A is included for reference. We solicit your comments on the new MMS forms in Appendices B and C.

Appendix A—U.S. Coast Guard Form CG-2692, “Report of Marine Accident, Injury or Death”

Appendix B—Department of the Interior Form MMS 142, “Report of OCS Incident—Immediate and 12 Hour”

Appendix C—Department of the Interior Form MMS-143, “Report of OCS Incident—15 Day”

BILLING CODE 4310-MR-P

BILLING CODE 4310-MR-C

Procedural Matters

Public Comments Procedures

Our practice is to make comments, including the names and home addresses of respondents, available for public review during regular business hours. Individual respondents may request that we withhold their home address from the rulemaking record, which we will honor to the extent allowable by law. There may be circumstances in which we would withhold from the rulemaking record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

Regulatory Planning and Review (Executive Order 12866)

According to the criteria in Executive Order 12866, this rule is not a significant regulatory action.

(1) This proposed rule will not have an annual economic effect of $100 million or adversely affect an economic sector, productivity, jobs, the environment, or other units of government. A cost-benefit and economic analysis is not required. Current incident reporting regulations require that MMS be notified of certain types of incidents. This proposed rule revises these requirements by providing more specific definitions and thresholds for which incidents must be reported and by requiring submission of written incident reports. It provides more consistency with USCG reporting requirements for incidents where the two agencies have mutual interest and responsibility. Written reports must be submitted electronically. MMS and the USCG continue to work on changes to their procedures that would allow a report to be sent to both agencies in one submission. The proposed rule will have an economic effect, but it is much less than $100 million per year. Costs to comply with this proposed rule involve the cost of making the appropriate notifications and reports. These costs include some one-time set-up costs that we have estimated at $491,000 and an annual incremental reporting cost for making the oral notifications and submitting the written reports over and above the annual reporting cost in the current MMS regulations. The annual incremental reporting cost is estimated at $64,512. These costs are explained in the following Regulatory Flexibility Act section.

(2) This proposed rule will not create inconsistencies with other agencies' actions. The only agency affected is the USCG. As noted, MMS and the USCG have worked together on this proposed rule to minimize incident reporting inconsistencies between the two agencies and are working to develop a single point electronic reporting system to streamline the reporting process between the two agencies.

(3) This proposed rule will not materially affect entitlements, grants, user fees, loan programs, or the rights and obligations of their recipients. It only deals with incident reporting requirements for OCS lessees/operators and pipeline right-of-way holders.

(4) This proposed rule will not raise novel legal or policy issues. MMS worked with the USCG to make the requirements as consistent as possible with their requirements and is working with them to develop an electronic reporting system that would allow written reports to be submitted through a single point to both agencies. This proposed rule does have a unique feature—it lists USCG reporting requirements for incidents where both agencies have mutual interest and responsibility. We included the USCG requirements so that both MMS and USCG requirements for these incidents can be found in one location. However, this is an MMS proposed rule. It does not require reporting to the USCG. Those requirements are found in the USCG regulations. The USCG will also need to take some action that allows the appropriate segments of their regulated community to report incidents electronically according to the MMS regulation.

We will work closely with the USCG as we review the comments to the proposed rule and finalize the incident reporting regulation. As a result of this continued coordination, we anticipate that at an appropriate time, the USCG will issue a regulation, or other appropriate notice, that describes how electronic reporting under the MMS regulation can be used to satisfy USCG requirements. Once the USCG has issued this notice, submission of the required incident reports through the electronic system should satisfy both MMS and USCG requirements for incidents when both agencies have a mutual interest and responsibility. This should provide for continued coordination between the two agencies, while allowing each agency the flexibility to exercise its statutory responsibilities.

Regulatory Flexibility (RF) Act

The Department of the Interior certifies that this proposed rule will not have a significant economic effect on a substantial number of small entities as defined under the RF Act (5 U.S.C. 601 et seq.). An RF analysis is not required. Accordingly, a Small Entity Compliance Guide is not required.

This rule applies to all lessees/operators and pipeline right-of-way holders operating on the OCS. Lessees/operators fall under the Small Business Administration's North American Industry Classification System (NAICS) code 211111, Crude Petroleum and Natural Gas Extraction. Under this NAICS code, companies with less than 500 employees are considered small businesses. MMS estimates that 130 lessees/operators explore for and produce oil and gas on the OCS; approximately 70 percent of them (91 companies) fall into the small business category.

A pipeline company (non-producer) is a small entity if it is a liquid pipeline company with fewer than 1,500 employees, or a natural gas pipeline company with gross annual receipts of $25 million or less. MMS's database indicates that there are 88 pipeline right-of-way holders who do not own an interest in any oil and gas leases on the OCS. Fifty-seven of these companies are either major energy companies (large oil and gas or pipeline transmission companies), or wholly owned subsidiaries of these companies. Another 13 entities were either formed by partnerships among major producers and transporters or have “arms-length” contractual relationships with several major producers on the OCS for which they provide transportation services. It is our understanding that in such relationships one of the major partners usually serves as the “managing partner” of the entity so that the entity (whether a partnership or a corporation) is not actually independent in the usual sense. The remaining 18 entities could be categorized as small independent pipeline companies in the sense that they provide transportation services for several non-major oil or gas producers with which they have an “arms-length” but symbiotic business relationship. These companies are represented by NAICS code 213112, “Support Activities for Oil and Gas Operations.”

Thus, there are 218 companies affected by this proposed rule, of which 109 would be considered small businesses. The costs to comply with the reporting requirements proposed in this rule include: (1) some one-time set-up costs and, (2) an annual incremental reporting cost for making the required notifications and written reports over and above the reporting cost in the current MMS regulation. This proposed rule does not include any recordkeeping requirements.

This proposed rule will affect both small and large businesses. All companies, large and small, will incur some one-time costs to modify their incident reporting systems to incorporate the new requirements. And all companies, both large and small, will have to notify MMS and submit the appropriate reports when they have an incident on the OCS that falls within the scope of the regulation.

Although 109 of these companies are technically small, we believe that only those small businesses that do not have adequate computer equipment (one-time set-up costs) or Internet/email access (annual cost) at the location from where they will initiate or submit their written reports will incur some extra costs. We estimate that only 5 percent of the small companies (or 11 companies) would incur these costs. These 11 companies might incur $5,000 per company for one-time set-up costs and $360 per company for annual Internet/email maintenance. The estimated cost to be paid only by the 11 small companies compared to the estimated total cost for all companies is shown below. These costs are based on the portion of the costs that are over and above costs of the current regulations.

Cost type | Total cost to all companies | Total cost that would be paid only by 11 small companies
Total One Time Set-Up Costs | $491,000 | $55,000
Annual Costs:
Internet/Email Cost | 3,960 | 3,960
Incremental Cost of Notification and submission of Reports | 60,552 | 0
Total Annual Incremental Costs | 64,512 | 3,960

Your comments are important. The Small Business and Agriculture Regulatory Enforcement Ombudsman and 10 Regional Fairness boards were established to receive comments from small businesses about Federal agency enforcement actions. The Ombudsman will annually evaluate the enforcement activities and rate each agency's responsiveness to small business. If you wish to comment on the enforcement actions of MMS, call toll-free (888) 734-3247.

Small Business Regulatory Enforcement Fairness Act (SBREFA)

This proposed rule is not a major rule under 5 U.S.C. 804(2), the SBREFA. This rule:

(1) Does not have an annual effect on the economy of $100 million or more. Costs to comply with these revisions involve some one-time set-up costs and an annual incremental reporting cost (for making the oral notifications and submitting written reports) over and above the cost in the current MMS regulations. The total set-up costs were estimated at $491,000. The incremental annual reporting costs were estimated at $64,512.

(2) Will not cause a major increase in costs or prices for consumers, individual industries, federal, state, or local government agencies, or geographic regions. The minor costs involved in complying with the revised MMS reporting requirements will not change the way the oil and gas industry conducts business, nor will it affect regional oil and gas prices. Therefore, it will not cause major cost increases for consumers, the oil and gas industry, or any government agencies.

(3) Does not have significant adverse effects on competition, employment, investment, productivity, innovation, or the ability of United States based enterprises to compete with foreign-based enterprises. All lessees/operators and pipeline right-of-way holders, regardless of nationality, will have to comply with the reporting requirements of this rule. The rule will not affect competition, employment, investment, productivity, innovation, or the ability of the United States-based enterprises to compete with foreign-based enterprises.

Paperwork Reduction Act (PRA) of 1995

The proposed rule requires information collection. According to section 3507(d) of the PRA we have submitted an information collection request (ICR) (form OMB 83-I) to the OMB for review and approval of the proposed MMS reporting requirements.

The title of the MMS ICR for the proposed rule is “Proposed Rulemaking—30 CFR 250, Subpart A—Incident Reporting Requirements.” Potential respondents are approximately 130 Federal OCS lessees and operators, and 88 pipeline right-of-way holders who do not own an interest in any oil and gas leases on the OCS. Responses are mandatory. This collection of information does not include proprietary information and, for MMS reporting purposes, does not include questions of a sensitive nature.

It should be noted that the proposed rule does refer to, but does not require, reporting to the USCG on form CG-2692. OMB has approved the USCG form CG-2692 information collection requirements under OMB Control Number 2115-0003, with a current expiration date of January 31, 2005. To avoid duplicate reporting requirements as much as possible, the proposed rule allows respondents to use form CG-2692 to report certain incidents to MMS. Respondents would submit the form electronically to provide simultaneous transmission to both MMS and USCG. Our ICR to OMB includes the burden for completing this form when it is required by MMS. Although this might result in a small double counting of the burden hours, it would be very insignificant. The USCG estimates receiving 7,000 CG-2692/2692A forms each year, and we estimate only 124 of those 7,000 forms would apply to MMS reporting requirements.

As explained earlier in the preamble, the CG-2692 form does not cover all of the incidents pertinent to MMS nor does it contain certain information that MMS needs. Therefore, we are proposing two new MMS forms that would be submitted only to MMS. The forms are designed to avoid, to the extent possible, duplicating information captured on form CG-2692. The proposed new forms are:

Form MMS-142, Report of OCS Incident (Immediate and 12 Hour)

Form MMS-143, Report of OCS Incident (15 Day)

It also should be noted that the proposed rule does allow respondents to submit copies of internal reports in lieu of form MMS-142 as their “final report,” if the company report covers all of the required information.

Hour Burden

The information collected on form CG-2692 and the new MMS forms expand and add to the currently approved notification and reporting requirements in 30 CFR 250.191 on accidents (994 burden hours), § 250.490 on H2S releases (26 burden hours), and 30 CFR 254.46 on oil spills (59 burden hours). We would reduce the respective reporting burdens for requirements in those sections in conjunction with final regulations becoming effective. The ICR submitted to OMB for this proposed rulemaking covers the total estimated burden for MMS reporting requirements. There are no proposed recordkeeping requirements. The following chart summarizes the estimated hour burden (column 4 has been rounded to the nearest hour) of the proposed rule.

Reporting requirement | Estimated number of notices or reports per year | Estimated hour burden calculated in minutes | Annual hour (rounded) burden | Annual hour burden cost @ $50/hour
Oral notification of incident | 142 | 10 | 24 | $1,200
“Immediate” Category Follow-up Report using form CG-2692 and MMS-142, Sections 1-3 | 124 | 220 | 455 | 22,750
“Immediate” Category Final Report using form MMS-142, Sections 1-4 (or company report) | 65 | 160 | 173 | 8,650
“12-Hour” Category Initial Report using form CG-2692 and MMS-142, Sections 1-2 | 89 | 145 | 215 | 10,750
“12-Hour” Category Follow-up Report using form MMS-142, Sections 1-3 | 89 | 115 | 171 | 8,550
“15-Day” Category Report using form MMS-143 | 750 | 85 | 1,063 | 53,150
Submit additional information for clarification when requested by MMS | 186 | 60 | 186 | 9,300
Totals | 1,445 |  | 2,287 | *114,350
*Due to “rounding” of hours, this cost is slightly lower than costs shown in other sections which were calculated in fractions of hours. OMB requires ICRs to be submitted in whole hours.

Non-Hour Cost Burden

As discussed in previous sections of the Preamble, in order to submit reports electronically, all companies may experience some one-time set-up costs. A few of the smaller companies may incur additional set-up costs and new annual Internet/email access costs.

Most companies already have reporting and data-gathering systems to investigate and report incidents internally. Most also have systems and procedures in place to notify MMS and the USCG of incidents and to submit required USCG written reports. These established systems may need to be modified and personnel trained to address the change in reporting thresholds and new MMS written report requirements. We estimate this may take 40 hours per company. At a cost of $50 per hour, the total cost for the 218 companies is estimated at $436,000 for one-time set-up costs.

Some of the approximately 109 small entities affected by the proposed rule may need to purchase additional computer equipment with Internet access at the location from where they will initiate or submit written reports. We estimate about 5 percent (11 companies) may experience an additional one-time investment of approximately $5,000 for a total of $55,000 that would not be a “usual and customary” business expense for these companies.

These same 11 companies would also incur a monthly Internet/email account expense of approximately $30 per month or $360 per year/company for a total recurring annual operation and maintenance cost of $3,960.

PRA Comments

As part of our continuing effort to reduce paperwork and respondent burdens, MMS invites the public and other Federal agencies to comment on any aspect of the reporting burden in the proposed rule. You may submit your comments directly to the Office of Information and Regulatory Affairs, OMB. Send a copy of your comments to MMS. Refer to the “Addresses” section for mailing instructions. MMS will summarize written comments and address them in the final rule preamble. The PRA provides that an agency may not conduct or sponsor, and a person is not required to respond to, a collection of information unless it displays a currently valid OMB control number. OMB is required to make a decision concerning the collection of information contained in these proposed regulations between 30 to 60 days after publication of this document in the Federal Register. Therefore, a comment to OMB is best assured of having its full effect if OMB receives it by August 7, 2003. This does not affect the deadline for the public to comment to MMS on the proposed regulations.

a. We specifically solicit comments on the following questions:

(1) Is the proposed collection of information necessary for MMS to properly perform its functions, and will it be useful?

(2) Are the estimates of the burden hours of the proposed collection reasonable?

(3) Do you have any suggestions that would enhance the quality, clarity, or usefulness of the information to be collected?

(4) Is there a way to minimize the information collection burden on those who are to respond, including the use of appropriate automated electronic, mechanical, or other forms of information technology?

b. In addition, the PRA requires agencies to estimate the total annual reporting and recordkeeping “non-hour cost” burden resulting from the collection of information. We solicit your comments on this item, including the accuracy of our estimates previously discussed or any others we have not identified. For reporting and recordkeeping only, your response should split the cost estimate into two components: (1) the total capital and start-up cost component and, (2) annual operation, maintenance, and purchase of services component. Your estimates should consider the costs to generate, maintain, and disclose or provide the information. You should describe the methods you use to estimate major cost factors, including system and technology acquisition, expected useful life of capital equipment, discount rate(s), and the period over which you incur costs. Generally, your estimates should not include equipment or services purchased: before October 1, 1995; to comply with requirements not associated with the information collection; for reasons other than to provide information or keep records for the Government; or as part of customary and usual business or private practice.

Federalism (Executive Order 13132)

According to Executive Order 13132, this rule does not have Federalism implications. It does not substantially and directly affect the relationship between the Federal and State governments. This rule applies to lessees/operators and pipeline right-of way holders on the OCS. It does not impose costs on States or localities. Any costs will be the responsibility of the lessees/operators and pipeline right-of way holders.

Takings Implication Assessment (Executive Order 12630)

According to Executive Order 12630, this proposed rule does not have significant Takings implications. A Takings Implication Assessment is not required. This rule revises existing incident reporting regulations. It does not prevent any lessee, operator, or pipeline right-of-way holder from performing operations on the OCS, provided they follow the regulations.

Civil Justice Reform (Executive Order 12988)

According to Executive Order 12988, the Office of the Solicitor has determined that this rule does not unduly burden the judicial system and does meet the requirements of sections 3(a) and 3(b)(2) of the Order.

National Environmental Policy Act of 1969

This rule does not constitute a major Federal action significantly affecting the quality of the human environment. An environmental assessment is not required. This rule only revises reporting requirements for incidents on the OCS through oral notification and electronic submission of written reports. It does not require, promote, or modify the conduct of operations or activities on the OCS.

Unfunded Mandates Reform Act (UMRA)

According to the UMRA (2 U.S.C. 1501 et seq.):

(1) This rule will not “significantly or uniquely” affect small governments. A Small Government Agency Plan is not required. This rule revises reporting regulations for oil and gas operations and does not involve the activities of any small governments, so no small governments are affected.

(2) This rule will not produce a Federal mandate of $100 million or greater in any year, i.e., it is not a “significant regulatory action” under the UMRA. This rule does not have any Federal mandates.

Government-to-Government Relationship With Tribes

According to the President's memorandum of April 29, 1994, “Government-to-Government Relations with Native American Tribal Governments” (59 FR 22951) and 512 DM 2, we have evaluated potential effects on federally recognized Indian tribes and have determined that there are no potential effects because the OCS operating regulations have no effect on any Indian tribe.

Clarity of the Regulation

Executive Order 12866 requires each agency to write regulations that are easy to understand. We invite your comments on how to make this proposed rule easier to understand, including answers to questions, such as the following:

(1) Are the requirements in the proposed rule clearly stated?

(2) Does the proposed rule contain technical language or jargon that interfere with its clarity?

(3) Is the description in the Supplementary Information section of this preamble helpful in understanding the proposed rule? What else can we do to make it easier to understand?

Send a copy of any comments that concern how we could make this proposed rule easier to understand to: Office of Regulatory Affairs, Department of the Interior, Room 7229, 1849 C Street, NW., Washington, DC 20240. You may also e-mail the comments to this address: Exsec@ios.doi.gov.

List of Subjects

30 CFR Part 250

Continental shelf; Environmental impact statements; Environmental protection; Government contracts; Investigations; Mineral royalties; Oil and gas development and production; Oil and gas exploration; Oil and gas reserves; Penalties; Pipelines; Public lands—mineral resources; Public lands—rights-of-way; Reporting and recordkeeping requirements; Sulphur development and production; Sulphur exploration; Surety bonds.

30 CFR Part 254

Continental shelf; Environmental protection; Oil and gas development and production; Oil and gas exploration; Pipelines; Public lands—mineral resources; Public lands—rights-of-way; Reporting and recordkeeping requirements.

Dated: May 21, 2003.
Rebecca W. Watson,
Assistant Secretary, Land and Minerals Management.

For the reasons stated in the preamble, the MMS proposes to amend 30 CFR Part 250 and Part 254 as follows:

PART 250—OIL AND GAS AND SULPHUR OPERATIONS IN THE OUTER CONTINENTAL SHELF

1. The authority citation for 30 CFR Part 250 continues to read as follows:

Authority: 43 U.S.C. 1331 et seq.

2. In § 250.105 the following definitions are added in alphabetical order:

§ 250.105 Definitions

* * * * *

Collision means the striking of:

(1) An OCS facility by a vessel or helicopter; or

(2) Two vessels together where at least one is engaged in OCS activities, regardless of whether one or both vessels are in motion.

* * * * *

Fire means the phenomenon of combustion manifested in light, flame, and heat and has the same meaning as in the American Petroleum Institute, Recommended Practice 14G, Third Edition, December 1, 1993. In addition, the term fire as used in this part includes incidents of combustion that involve smoke with no visible flame.

Gas release means any unintentional release of gas at an OCS facility that could, without corrective action, raise hydrocarbon or other gas concentrations to the lower flammable (explosive) limit. Gas releases do not include events where gas is successfully released through the vent or flare system.

* * * * *

Incident means an accident or unexpected event occurring in the course of an OCS activity that affects or is likely to affect operational safety or environmental protection. “Incident” includes the term “casualty” and “marine casualty” used in United States Coast Guard (USCG) regulations.

* * * * *

Loss of well control means either of the following:

(1) Uncontrolled flow of formation or other well fluids. The flow may be between two or more exposed formations or it may be at or above the mudline. This includes uncontrolled flow resulting from failures of either surface or subsurface equipment or procedures.

(2) Flow of formation or other well fluids through a diverter.

* * * * *

Mobile Offshore Drilling Unit (MODU) means a vessel, other than a public vessel of the United States, that is capable of engaging in drilling operations for exploration or exploitation of subsea resources.

* * * * *

OCS activity means any activity on the OCS associated with exploration, development, production, transporting, or processing of OCS mineral resources, including but not limited to, oil and gas.

OCS facility means any artificial island, installation, pipeline, or other device permanently or temporarily attached to the seabed, erected for the purpose of exploring for, developing, producing, or transporting resources from the OCS. This term does not include ships or vessels for transporting produced hydrocarbons. A MODU is an OCS facility when it is located on the area covered by a lease, easement, right-of-way, or permit and is engaged in operations related to the exercise of rights under that lease, easement, right-of-way, or permit.

* * * * *

Property damage means the cost of labor and material to restore all affected items, including, but not limited to, OCS facilities, vessels, or helicopters, to their condition before the damage. Property damage does not include the cost of salvage, cleaning, gas-freeing, drydocking, or demurrage of an OCS facility, vessel, or helicopter.

* * * * *

Reportable releases of H2S gas means a gas release that results in a 15-minute time-weighted average atmospheric concentration of H2S of 20 ppm or more anywhere on the facility, as defined in 30 CFR 250.490(l).

* * * * *

Vessel means any watercraft or other artificial contrivance used, or capable of being used, as a means of transportation on the water. The term “vessel” does not include atmospheric or pressure vessels used for containing liquids or gases.

Vessel engaged in OCS activities means any vessel that is located within 500 meters of an OCS facility and is engaged in any OCS activity.

* * * * *

3. Section 250.190 is redesignated § 250.186.

4. New §§ 250.187 through 250.190 are added to read as set forth below:

§ 250.187 What is the scope of the incident reporting requirements?

(a) The reporting requirements in §§ 250.188 through 250.190 apply to incidents that:

(1) Occur on the area covered by your lease, easement, right-of-way, or other permit; and

(2) Are related to operations resulting from the exercise of your rights under your lease, easement, right-of-way, or permit. This includes incidents involving vessels engaged in OCS activities as defined in § 250.105.

(b) You may be required to report incidents described in §§ 250.188 and 250.190 to the USCG under USCG rules. You may use the notifications and reports that you make to MMS under those sections to satisfy USCG incident reporting requirements if and to the extent allowed by USCG regulations.

(c) Nothing in this subpart relieves you from making notifications and reports of incidents that may be required by other regulatory agencies.

§ 250.188 What incidents must I immediately report to MMS, USCG, National Response Center (NRC), or the Responsible Party?

(a) After aiding the injured and stabilizing the situation, you must immediately make the following oral notifications and written reports for any of the incidents indicated in the following table.

If the following incident occurs: | You must make immediate oral notification to: | And provide the following written reports to:: Follow-up report (within 5 days unless otherwise specified) to: | And provide the following written reports to:: Final report (within 60 days) to:
(1) All incidents resulting in death, except for deaths due to natural causes | MMS USCG | MMS USCG | MMS
(2) All incidents involving injuries that result in one or more of the following: | MMS USCG | MMS USCG | MMS
(i) Hospitalization of a person for more than 48 hours within 5 days of the incident;
(ii) Fractured bone (other than in a finger, toe, or nose);
(iii) Loss of limb;
(iv) Severe hemorrhaging;
(v) Severe damage to a muscle, nerve, or tendon;
(vi) Damage to an internal organ; or
(vii) Evacuation to shore of three or more people
(3) All losses of well control | MMS | MMS | MMS
(4) All fires, explosions, or other incidents that result in property damage greater than $100,000 | MMS USCG | MMS USCG | MMS
(5) All collisions resulting in property damage greater than $100,000 | MMS USCG | MMS USCG | No report.
(6) Any incident that impairs the operation of any OCS facility's primary: | MMS USCG | MMS USCG | No report.
(i) Lifesaving equipment; or
(ii) Firefighting equipment.
(7) All reportable releases of H2S gas. | MMS | MMS | No report.
(8) All oil spills (per § 254.46(a)) which includes: | NRC | No report | No report.
(i) A spill from your facility;
(ii) A spill from another offshore facility; or
(iii) An offshore spill of unknown origin.
(9) Oil spills from your facility of one barrel or more (per § 254.46(b)) includes: | MMS NRC | MMS Report due within 15 days after the spillage has been stopped | MMS For spills of 200 barrels or more only.
(i) Spills of one barrel or more;
(ii) Spills of unknown size but thought to be one barrel or more; or
(iii) Spills not originally reported, but subsequently found to be one barrel or more.
(10) Oil spills resulting from operations at another offshore facility (per § 254.46(c)) | MMS and the Responsible Party | No report | No report.
(11) Vessels engaged in OCS activities that are involved in the incidents listed in 46 CFR 4.05-(1)(a)(1) through 4.05-(1)(a)(4) | MMS USCG | MMS USCG | No report.
(12) All releases of hazardous substances in reportable quantities as required by the Environmental Protection Agency regulations at 40 CFR § 302.6. Hazardous Substances and reportable quantities are listed at 40 CFR § 302.4 | NRC | No report | No report.
MMS = the appropriate Minerals Management Service District Supervisor
NRC = the National Response Center (NRC)—toll free number: 1-800-424-8802
USCG = the nearest United States Coast Guard Marine Safety Office, Marine Inspection Office, or Coast Guard Group Office

(b) Notifications and written reports made by the owner, agent, master, operator, or person in charge of a vessel will satisfy the reporting requirements for that vessel.

(c) Nothing in this subpart relieves the obligation for any vessel that is not engaged in OCS activities to provide notification and reports to the USCG as required by 46 CFR 4.05.

§ 250.189 What other incidents must I report to MMS?

(a) You must submit the following written reports to MMS for any of the incidents indicated in the following table.

If the following incident occurs: | Provide the following written reports:: Initial report (within 12 hours) | Provide the following written reports:: Followup report (within 5 days) | Provide the following written reports:: 15-day report (within 15 days)
(1) All incidents not reported under § 250.188(a) resulting in injuries or illnesses to more than one person that involve either: | X | X |
(i) Days away from work; or
(ii) Restricted work or job transfer
(2) All explosions that result in property damage equal to or less than $100,000 | X | X |
(3) All fires, collisions, and other incidents not reported in § 250.188(a) that result in property damage equal to or less than $100,000 but greater than $25,000 | X | X |
(4) All fires not reported in § 250.188(a) or paragraph (3) of this section resulting in injuries or illnesses that involve medical treatment beyond first aid to more than one person | X | X |
(5) All incidents not reported under § 250.188(a) or paragraphs (1)-(4) of this section resulting in an injury or illness to one person that involves either: |  |  | X
(i) Days away from work; or
(ii) Restricted work or job transfer.
(6) All other fires not reported under § 250.188(a) or paragraphs (3)-(4) of this section, excluding those completely contained in the living quarters |  |  | X
(7) Gas Releases |  |  | X
(8) All non-weather-related incidents when personnel muster for evacuation |  |  | X

(b) To determine if an injury or illness involves “days away from work,” “restricted work or job transfer,” or “medical treatment beyond first aid,” you should use the recording criteria in the Occupational Health and Safety Administration's regulations at 29 CFR 1904.7(b)(1)(ii), 1904.7(b)(1)(iii), and 1904.7(b)(1)(iv), respectively.

§ 250.190 What reporting procedures must I follow?

(a) General procedures.

(1) You must submit all written reports electronically.

(2)(i) You must make an oral notification within 24 hours and submit the appropriate written reports for incidents that are not reported, but are later found to be reportable.

(ii) You must make the appropriate oral notifications and submit the appropriate reports for incidents that have been reported but are later found to be reportable under a different section or paragraph.

(3) MMS District Supervisor may require additional information on a case-by-case basis, if the District Supervisor concludes that the information is needed to determine the cause of the incident.

(4) You must submit written reports on the appropriate forms as indicated in the following table.

If you are reporting under | and making this type of report | for incidents reported to MMS or to MMS and USCG, use:
(i) § 250.188 | Follow-up | CG-2692 and MMS-142, Sections 1-3.
(ii) § 250.188 | Final | MMS-142, Sections 1-4; or company reports as indicated in § 250.190(b)(2).
(iii) § 250.189(a)(l)-§ 250.189(a)(4) | Initial | CG-2692 and MMS-142, Sections 1-2.
(iv) § 250.189(a)(l)-§ 250.189(a)(4) | Follow-up | MMS-142, Sections 1-3.
(v) § 250.189(a)(5)-§ 250.189(a)(8) | 15-Day | MMS-143.
Note: For incidents reported to the MMS and USCG under § 250.188(a)(11), you need only submit a form CG-2692 for the Follow-up Report.

(b) Reporting procedures for incidents listed in § 250.188.

(1) If you are submitting reports under § 250.188 to fulfill USCG requirements, you must make a written report for each OCS facility and vessel involved in the incident.

(2) You may submit copies of company incident reports to fulfill the Final Report requirement as long as all the information requested by form MMS-142 is included.

(3) If you submit a Final Report within the timeframe listed for the Follow-up Report, no additional reporting is required.

5. In § 250.191, the following changes are made:

A. The section heading is revised and new introductory text is added as set forth below.

B. Paragraphs (a), (b), and (c)(2) are removed.

C. Paragraphs (c)(1), (c)(3), and (c)(4) are redesignated paragraphs (a), (c), and (d), respectively.

D. New paragraph (b) is added to read as set forth below.

§ 250.191 How does MMS conduct incident investigations?

Any investigation that MMS conducts under the authority of sections 22(d)(1) and (2) of the Act (43 U.S.C. 1348(d) (1) and (2)) is a fact-finding proceeding with no adverse parties. The purpose of the investigation is to prepare a public report that determines the cause or causes of the incident. The investigation may involve panel meetings conducted by a chairperson appointed by MMS. The following requirements must be met for any panel meetings involving persons giving testimony.

* * * * *

(b) Only panel members and any experts the panel deems necessary may address questions to any person giving testimony.

* * * * *

6. In § 250.490 the following changes are made:

A. In paragraph (l), the last word “facility” is revised to read “OCS facility'.

B. Two new sentences are added to the end of the paragraph to read as set forth below.

§ 250.490 Hydrogen sulfide.

* * * * *

(l) * * *You must submit a written Follow-up Report for these gas releases. All notifications and reports required in this paragraph must be made according to §§ 250.187 through 250.188 and § 250.190.

* * * * *

PART 254—OIL-SPILL RESPONSE REQUIREMENTS FOR FACILITIES LOCATED SEAWARD OF THE COAST LINE

7. The authority citation for part 254 continues to read as follows:

Authority: 33 U.S.C. 1321

8. In § 254.46, the following changes are made:

A. In paragraphs (b), (b)(1), (b)(2) and (c), the word “Regional” is revised to read “District”.

B. New paragraphs (b)(3) and (d) are added to read as follows:

§ 254.46 Whom do I notify if an oil spill occurs?

* * * * *

(b) * * *

(3) You must submit a written final report for any spill from your facility of 200 barrels or more.

* * * * *

(d) You must make all notifications and reports required in this section according to §§ 250.187 through 250.188 and § 250.190 of this chapter.

[FR Doc. 03-16782 Filed 7-7-03; 8:45 am]

BILLING CODE 4310-MR-P